ENVIRONMENTAL PROTECTION AGENCY

[Petition IV-2001-6; FRL-8255-5]

Clean Air Act Operating Permit Program; Petition for Objection to State Operating Permit for King Finishing; Dover (Screven County), GA

AGENCY: Environmental Protection Agency (EPA).

ACTION: Notice of final order denying petition to object to a state operating permit in response to remand.

SUMMARY: On September 21, 2006, the Administrator issued an Order Granting Remanded Issue on Petition to Object (Order) regarding a state operating permit issued to King Finishing located in Dover, Screven County, Georgia, pursuant to title V of the Clean Air Act (the Act), 42 U.S.C. 7661-7661f. On October 9, 2001, the Georgia Center for Law in the Public Interest filed a petition, on behalf of the Sierra Club (Petitioner), seeking EPA's objection to the title V operating permit issued to King Finishing by the Georgia Environmental Protection Division (EPD). The Administrator denied the petition in an Order dated October 9, 2002. Pursuant to Section 502(b) of the Act, Petitioner appealed to the U.S. Court of Appeals for the Eleventh Circuit (the Court). On January 20, 2006, the Court partially granted Petitioner's request for review, vacated the October 9, 2002, Order with respect to the mailing list issue, and remanded the issue to EPA for further consideration. Upon further consideration, EPA granted Petitioner's request to object to the King Finishing permit for EPD's failure to use a mailing list.

ADDRESSES: Copies of the Order, the petition, and all pertinent information relating thereto are on file at the following location: EPA Region 4, Air, Pesticides and Toxics Management Division, 61 Forsyth Street SW., Atlanta, Georgia 30303-8960. The final Order is also available electronically at the following address: http://www.epa.gov/region7/programs/artd/air/title5/petitiondb/petitions/ kingfinishing_decision2001_remanded.pdf

FOR FURTHER INFORMATION CONTACT: Art Hofmeister, Air Permits Section, EPA Region 4, at (404) 562-9115 or hofmeister.art@epa.gov.

SUPPLEMENTARY INFORMATION: Other inconsistencies (with the Act) alleged by the Petitioner were: that the public participation process and the public notice of the draft permit were inadequate; that the permit improperly limits enforcement authority and the use of credible evidence; and that the permit contains both inadequate monitoring and reporting requirements. EPA's October 9, 2002, denial of the above issues was unaffected by the Court's decision.

Dated: December 5, 2006.
A. Stanley Meiburg,
Deputy Regional Administrator, Region 4.

[FR Doc. E6-21292 Filed 12-13-06; 8:45 am]

BILLING CODE 6560-50-P